DEPARTMENT OF HEALTH AND HUMAN SERVICES

Centers for Medicare & Medicaid Services

[CMS-5050-N]

Medicare and Medicaid Programs; Resolicitation of Proposals for the Private, For-Profit Demonstration Project for the Program of All-Inclusive Care for the Elderly (PACE) and Announcement of Closing Date

AGENCY: Centers for Medicare & Medicaid Services (CMS), HHS.

ACTION: Notice.

SUMMARY: This notice resolicits proposals for the private, for-profit demonstration project for the Program of All-Inclusive Care for the Elderly (PACE) and announces a closing date for the solicitation. We previously solicited proposals from private, for-profit organizations for a fully capitated joint Medicare and Medicaid demonstration.

DATES: Closing Date: Proposals must be submitted by July 26, 2010.

ADDRESSES: Proposals should be mailed to the following by the date specified in the DATES section of this notice: Attention: Michael Henesch, Office of Research, Development, and Information, Centers for Medicare and Medicaid Services, Mailstop: C4-17-27, 7500 Security Boulevard, Baltimore, MD 21244-1850.

FOR FURTHER INFORMATION CONTACT: Michael Henesch, 410-786-6685.

SUPPLEMENTARY INFORMATION:

I. Background

Sections 1894(h)(1) and 1934(h)(1) of the Social Security Act (the Act) state that the Secretary shall grant waivers to enable up to ten private, for-profit Programs of All-Inclusive Care for the Elderly (PACE) demonstration projects to provide medical assistance to PACE program eligible individuals who are 55 years of age or older, require the level of care required for coverage of nursing facility services, and reside in the PACE program service area. The for-profit demonstration provision requires that, except for the numerical limitation of ten demonstration waivers, the operation of a PACE program by a provider shall be the same as those for PACE providers that are not-for-profit, private organizations. The purpose of this notice is to resolicit proposals for the private, for-profit demonstration project for the PACE and announces a closing date for the solicitation. A previous notice of solicitation to for-profit organizations (66 FR 42229) was published in the August 10, 2001 Federal Register. The purpose of the August 2001 notice was to determine whether the risk-based long-term care model employed by the nonprofit PACE can be replicated successfully by for-profit organizations.

Section 4804(b) of the Balanced Budget Act of 1997 (BBA) (Pub. L. 105-33) requires issuance of a report that includes findings as to whether—

• The number of covered lives enrolled in for-profit PACE demonstration projects are statistically sufficient to make the findings described below;

• The population enrolled in for-profit PACE demonstration projects is less frail than the population enrolled with other PACE providers;

• Access to or quality of care for individuals enrolled with for-profit PACE programs is lower than for those enrolled in other PACE programs; and

• For-profit demonstration projects resulted in increased expenditures under Medicare or Medicaid programs above those incurred by other PACE providers.

The August 2001 Federal Register (66 FR 42229), solicited proposals from for-profit entities to demonstrate that they can successfully provide comprehensive coordinated care for the frail elderly under a prepaid fully-capitated payment system. That notice specified that we would—(1) consider proposals only from for-profit organizations; and (2) operate the demonstration for 3 years.

To date, there are only two for-profit PACE demonstration projects in place, both of which began in 2007.

II. Provisions of the Notice

This notice resolicits proposals for the private, for-profit demonstration project for the PACE and announces a closing date for this solicitation. We publish this notice to—

• Encourage for-profit entities to submit proposals to conduct projects to demonstrate the for-profit PACE concept over a 3 year period, and to further encourage that they do so within the next year by establishing a closing date to the solicitation; and

• Increase the number of covered enrollees across all for-profit demonstration sites.

Therefore, this notice provides an additional opportunity for interested for-profit organizations to submit proposals to the address listed in the ADDRESSES section of this notice by the date specified in the DATES section of this notice. If after this limited 1-year opportunity the report with the required findings cannot be completed, for-profit PACE demonstrations should plan to terminate their projects. We note that, as a resolicitation, all proposals received will be evaluated using the criteria specified in the original August 10, 2001 Federal Register notice (66 FR 42231) and these criteria are also available on the CMS Web site at: http://www.cms.hhs.gov/DemoProjectsEvalRpts/MD/itemdetail.asp?itemID=CMS1202809.

III. Collection of Information Requirements

As we do not anticipate receiving 10 or more applications for this demonstration, this document does not impose information collection and recordkeeping requirements. Consequently, it need not be reviewed by the Office of Management and Budget under the authority of the Paperwork Reduction Act of 1995.

Authority: Section 1894(h) and 1934(h) of the Social Security Act (42 U.S.C. 1395eee and 1396u-4) (Catalog of Federal Domestic Assistance Program No. 93.778, Medical Assistance Program; No. 93.773 Medicare—Hospital Insurance Program; and No. 93.774, Medicare—Supplementary Medical Insurance Program)

Dated: May 6, 2009.
Charlene Frizzera,
Acting Administrator, Centers for Medicare & Medicaid Services.

[FR Doc. E9-17607 Filed 7-23-09; 8:45 am]

BILLING CODE 4120-01-P